DEPARTMENT OF DEFENSE

Department of the Air Force

Intent To Grant an Exclusive Patent License

Pursuant to the provisions of part 404 of title 37, code of Federal Regulations, which implements Public Law 96-517, as amended, the Department of the Air Force announces its intention to grant MJS International, Inc., a corporation of Missouri, having a place of business at Chesterfield, Missouri, an exclusive license in any right, title and interest the Air Force has in:

U.S. Patent No. 6,267,039, issued 31 July 2001, entitled “Aircraft Missile Hit Survivability Using Infrared Lamp and Sacrificial Support Structure,” by Gregory J. Czarnecki.

A license for this patent will be granted unless a written objection is received within fifteen (15) days from the date of publication of this Notice. Written objection should be sent to: Air Force Materiel Command Law Office, AFMCLO/JAZ, 2240 B. Street, Rm 100, Wright-Patterson AFB OH 45433-7109. Telephone: (937) 255-2838; Facsimile (937) 255-7333.

Pamela Fitzgerald,
Air Force Federal Register Liaison Officer.

[FR Doc. 03-21847 Filed 8-26-03; 8:45 am]

BILLING CODE 5001-05-P